DEPARTMENT OF AGRICULTURE

Submission for OMB Review; Comment Request

July 27, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Risk Management

Title: Organic Transition Simulation Model (OTSM) and Online Training Course.

OMB Control Number: 0563-NEW.

Summary of Collection: Under the provisions of section 522(d) of the Federal Crop Insurance Act the U.S. Department of Agriculture, Federal Crop Insurance Corporation operating through the Risk Management Agency authorized a partnership with The Rodale Institute for the development of risk management tools for use directly by agricultural producers. The goal of the partnership is to develop an Organic Transition Simulation Model to help farmers analyze a variety of risk factors and costs assessing the relative economic benefits of organic versus conventional systems over time; and a transition to organic course for farmers and Extension specialists to train producers and educators in the basics of organic production and marketing.

Need and Use of the Information: The product development data collection is necessary to obtain feedback from experts and potential users of a Web-based simulation model designed to assist farmers and agricultural extension specialists in understanding the economic and environmental consequences in making a transition from traditional to organic production techniques. Results of this collection will be used to revise and improve the simulation model. The program evaluation component of the data collection is required to assess the effectiveness of the fully developed simulation model and the accompanying training course.

Number of Respondents: 2,060.

Description of Respondents: Farms; Individuals or households.

Frequency of Responses: Reporting: Annually.

Total Burden Hours: 1,110.

Charlene Parker,
Departmental Information Clearance Officer.

[FR Doc. E6-12407 Filed 8-1-06; 8:45 am]

BILLING CODE 3410-08-P